DEPARTMENT OF HOMELAND SECURITY

Bureau of Customs and Border Protection

Bureau of Customs and Border Protection Trade Symposium 2006: “The World of Trade—5 Years After 9/11”

AGENCY: Customs and Border Protection, Department of Homeland Security.

ACTION: Notice of trade symposium.

SUMMARY: This document announces that the Bureau of Customs and Border Protection (CBP) will convene a major trade symposium that will feature panel discussions involving department personnel, members of the trade community and other government agencies on the agency's role on international trade security initiatives and programs. Members of the international trade and transportation communities and other interested parties are encouraged to attend and to register early.

DATES: Wednesday, December 13, 2006 (opening reception—6 to 8 p.m.); Thursday, December 14, 2006 (panel discussions, luncheon and open forum with senior management—8:30 a.m. to 6 p.m.); Friday, December 15, 2006 (half-day session with panel discussions—8 a.m. to 1 p.m.) will be held.

ADDRESSES: The Trade Symposium will be held at the Ronald Reagan Building and International Trade Center, 1300 Pennsylvania Avenue, NW., Washington, DC. Upon entry into the building, a photo identification must be presented to the security guards.

FOR FURTHER INFORMATION CONTACT: The Office of Trade Relations at (202) 344-1440 or at traderelations@dhs.gov. ACS Client Representatives; CBP Account Managers; Regulatory Audit Trade Liaisons; or to obtain the latest information on the Symposium and to register on-line, visit the CBP Web site at http://www.cbp.gov. Requests for special needs should also be sent to the Office of Trade Relations at traderelations@dhs.gov.

SUPPLEMENTARY INFORMATION: The keynote speaker will be announced at a later date. The cost is $250.00 per individual and includes all symposium activities. Interested parties are requested to register early, as space is limited. Registration will open to the public on or about November 1, 2006. All registrations must be made on-line through the CBP Web site (http://www.cbp.gov) and be confirmed with payment by credit card only. The JW Marriott Hotel, 1331 Pennsylvania Avenue, NW., Washington DC, has reserved a block of rooms for Wednesday through Friday, December 13-15, 2006 at a rate of U.S. $239.00 per night. Reservations may be made directly with the hotel at (202) 393-2000 or 1-800-228-9290, or select the following link http://marriott.com/property/propertypage/wasjw?groupCode=uscusca&app=resvlink and reference the “CBP Trade Symposium.”

Dated: October 17, 2006.
Russell Ugone,
Acting Director, Office of Trade Relations.

[FR Doc. E6-17622 Filed 10-20-06; 8:45 am]

BILLING CODE 9111-14-P